DEPARTMENT OF COMMERCE

National Oceanic and Atmospheric Administration

RIN 0648-XC735

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the Council to establish the 2013 red snapper quotas and supplemental recreational red snapper season. The Council will also hold a formal public comment session.

DATES: The Council meeting will be held from 7 a.m. until 5 p.m. on Wednesday, July 17, 2013.

ADDRESSES: Meeting address: The meeting will be held at the Hilton New Orleans Riverside Hotel, Two Poydras Street, New Orleans, LA 70130; telephone: (504) 561-0500.

Council address: Gulf of Mexico Fishery Management Council, 2203 North Lois Avenue, Suite 1100, Tampa, FL, 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion are as follows:

Council Agenda, Wednesday, July 17, 2013, 7 a.m. until 5 p.m.

7 a.m.-7:15 a.m.—Call to Order and Introductions, review the agenda and approve the minutes.

7:15 a.m.-9:30 a.m.—The Council will review an analysis of the yield stream projections for red snapper at constant catch levels. The Council will receive a summary and discuss the proposed actions in the Red Snapper Framework Action. The Council will hear a summary of the written comments received.

9:30 a.m.-12 p.m.—The Council will receive public testimony on the Final Draft of the Framework Action to establish 2013 red snapper quotas and establish the structure of the recreational red snapper season. People wishing to speak before the Council should complete a public comment card prior to the comment period.

1 p.m.-4 p.m.—The Council will select and take final action on the Red Snapper Framework Action to both establish the 2013 red snapper quotas and select the supplemental recreational fishing season structure.

4 p.m.-5 p.m.—The Council will discuss any other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: June 25, 2013.
Tracey L. Thompson,
Acting Deputy Director, Office of Sustainable Fisheries, National Marine Fisheries Service.

[FR Doc. 2013-15508 Filed 6-27-13; 8:45 am]

BILLING CODE 3510-22-P